OFFICE OF PERSONNEL MANAGEMENT

Civil Service Retirement System and Federal Employees' Retirement System; Opportunity for Annuitants to Elect Survivor Annuity Benefits for Same-Sex Spouses

AGENCY: Office of Personnel Management.

ACTION: Notice.

SUMMARY: The Office of Personnel Management (OPM) is providing notice of a 2-year opportunity for annuitants who are in legal same-sex marriages to elect survivor annuities for their spouses under the Civil Service Retirement System (CSRS) and Federal Employees' Retirement System (FERS).

DATES: All retirees who are in legal same-sex marriages have through June 26, 2015, to inform OPM that they have legal same-sex marriages that now qualify for recognition and to elect survivor annuities for their spouses based on their recognized marital status.

FOR FURTHER INFORMATION CONTACT: Information by Phone: Call the Retirement Information Office toll-free at 1-888-767-6738. If you use TTY equipment, call 1-855-887-4957. Be sure to have your claim number (CSA number) on hand when you call a specialist. Information by Email: retire@opm.gov.

Information or Elections by Mail: U.S. Office of Personnel Management, Retirement Operations Center, PO Box 45, Boyers, PA, 16017-0045. Please include your full name and your claim number (CSA number) in your correspondence.

SUPPLEMENTARY INFORMATION: Section 3 of the Defense of Marriage Act (DOMA) provided that, when used in a Federal law, the term “marriage” would mean only a legal union between one man and one woman as husband and wife, and that the term “spouse” referred only to a person of the opposite sex who is a husband or a wife. Because of DOMA, the Federal Government has been prohibited from recognizing the legal marriages of same-sex couples for purposes of retirement benefit programs.

On June 26, 2013, in United States v. Windsor, 570 U.S. __ (2013), the Supreme Court of the United States (Supreme Court) ruled that Section 3 of DOMA is unconstitutional. As a result of this decision, the U.S. Office of Personnel Management (OPM) is now able to extend benefits to Federal employees and annuitants who are legally married to spouses of the same sex, regardless of the employees' or annuitants' states of residency. Consistent with OPM's long-standing policy of recognizing the legal foreign marriages of opposite-sex couples for purposes of the retirement benefit programs that OPM administers, OPM will also recognize legal same-sex marriages granted in countries that authorize such marriages, regardless of the employees' or annuitants' states of residency, for purposes of these programs.

As OPM stated in its June 28, 2013 Memorandum for Heads of Executive Departments and Agencies, all retirees who are in legal same-sex marriages will have 2 years from the June 26, 2013 date of the Supreme Court's decision (i.e, through June 26, 2015) to inform OPM that they have legal marriages that now qualify for recognition and to elect reductions in their CSRS or FERS retirement annuities to provide survivor annuity benefits for their spouses, based on their recognized marital status. An annuitant should be aware that electing a survivor annuity will require a reduction of his/her annuity to provide the survivor annuity, or an adjustment of the amount of reduction currently being made to provide an insurable interest annuity to change the reduction amount to a survivor annuity reduction. Before an election is made, we recommend that the annuitants carefully consider what effect the reduction or change in reduction will have on the amount of their net annuities.

Annuitants should consider their language carefully before sending OPM written requests regarding survivor benefits for their spouses. An annuitant who contacts OPM and only request information about the effect a survivor election would have on the annuity will receive a statement describing the cost of the election and an election form that would need to be returned to OPM by June 26, 2015, to elect the survivor benefit. An annuitant who sends a signed statement or letter to OPM and indicates that he/she wants to elect a survivor benefit for a spouse will also receive a statement describing the cost of the election; he/she will not be able to change his/her mind about providing the survivor benefit. Unless otherwise specified, OPM will consider any requests for information about survivor benefits or any signed elections of survivor benefits as requests for information or elections of the maximum survivor benefit. More information about the election and the survivor reduction is provided at http://www.opm.gov/retirement-services/my-annuity-and-benefits/life-events/#url=MarriageDivorce.

A request for information about survivor annuity benefits or signed, written elections of survivor benefits should be accompanied with a copy of the marriage certificate proving the same-sex marriage. Please be advised that an election of a survivor annuity is irrevocable. An annuitant will not be able to change an election later. We strongly urge annuitants to carefully consider elections before submitting them to OPM.

U.S. Office of Personnel Management.
Elaine Kaplan,
Acting Director.

[FR Doc. 2013-18665 Filed 8-1-13; 8:45 am]

BILLING CODE 6325-38-P